DEPARTMENT OF HOMELAND SECURITY

[DHS-2005-0045]

United States Visitor and Immigrant Status Indicator Technology Program; Privacy Impact Assessment

AGENCY: Department of Homeland Security, United States Visitor and Immigrant Status Indicator Technology Program.

ACTION: Notice of availability of Privacy Impact Assessment.

SUMMARY: The Department of Homeland Security intends to modify the United States Visitor and Immigrant Status Indicator Technology Program to conduct a live test of the technology required to read biometrically enabled travel documents that comply with international standards. In conjunction with this change, US-VISIT is revising its Privacy Impact Assessment to discuss the impact of this live test on privacy. The revised Privacy Impact Assessment is available on the Web site of the Privacy Office of the Department of Homeland Security, http://www.dhs.gov/privacy, and on the US-VISIT Web site, http://www.dhs.gov/usvisit. The original US-VISIT PIA was published in the Federal Register on January 16, 2004 (69 FR 2608); a revised version reflecting subsequent changes was published on September 23, 2004 (69 FR 57036).

FOR FURTHER INFORMATION CONTACT: Steve Yonkers, Privacy Officer, US-VISIT, Department of Homeland Security, Washington, DC 20528, telephone (202) 298-5200, facsimile (202) 298-5201, e-mail: usvisitprivacy@dhs.gov; Nuala O'Connor Kelly, Chief Privacy Officer, Department of Homeland Security, Mail Stop 0550, 601 S. 12th Street, Arlington, VA 22202-4220; by telephone (571) 227-4127 or facsimile (571) 227-4171.

Nuala O'Connor Kelly,
Chief Privacy Officer, Department of Homeland Security.

[FR Doc. 05-12026 Filed 6-14-05; 3:36 pm]

BILLING CODE 4410-10-P